DEPARTMENT OF ENERGY

Federal Energy Regulatory Commission

[Docket No. RP00-496-001]

Total Peaking Services, L.L.C.; Notice of Proposed Changes in FERC Gas Tariff

August 28, 2000.

Take notice that on August 21, 2000, Total Peaking Services, L.L.C. (Total Peaking) tendered for filing various revised tariff sheets to address several minor housekeeping matters, specifically, changing Total Peaking's address, creating a new Internet Web Site, and correcting several typographical errors.

Any person desiring to protest this filing should file a protest with the Federal Energy Regulatory Commission, 888 First Street, NE., Washington, DC 20426, in accordance with Section 385.211 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-22414 Filed 8-31-00; 8:45 am]

BILLING CODE 6717-01-M